NUCLEAR REGULATORY COMMISSION

Call for Anticipatory Research Projects

NRC research is performed in order to meet a known or anticipated regulatory need. There are two main categories of research that require separate consideration: Confirmatory research and anticipatory research. Confirmatory research aids the agency in responding to license issues that are now before the agency or that are anticipated to come before the agency in the near term. This type of research is performed either when the Office of Nuclear Regulatory Research recognizes issues of concern or at the request of a program office that is directly responsible for regulatory oversight, e.g., Offices of Nuclear Reactor Regulation (NRR), Nuclear Materials Safety and Safeguards (NMSS), or Nuclear Security and Incident Response (NSIR).

The NRC also conducts research programs that are more forward looking, which we refer to as “anticipatory” research, an effort to try to foresee where the NRC may need information to respond to future regulatory issues. This research is related to better understanding evolving technologies or issues that may become important regulatory concerns in the future. Some of this work may also be confirmatory in nature by providing independent assessment of information developed by the nuclear industry. These types of programs may have been requested by the other program offices, or they may be developed as a result of independent examination of industry trends and emerging issues. If the agency waits until these potential issues become actual regulatory concerns, it may be too late to develop the technical information to respond in a timely fashion. Examples of anticipatory research that have been highly valuable to the agency include probabilistic risk analysis methods and applications, severe accident source term research, and the evaluation of the effects of aging on plant components.

Therefore, the NRC's Office of Nuclear Regulatory Research (RES) is seeking recommendations for anticipatory research both within NRC and from external stakeholders. This research will help the NRC resolve current challenges and prepare for anticipated future regulatory issues. The responding submittal should describe the proposed research and the potential use of the research results in current or future regulatory activities. We also solicit your comments on the factors that should be considered when anticipatory research topics are prioritized. Responses to this request will be evaluated for possible inclusion in the FY 2006 and FY 2007 budgets.

To permit these new topics to be considered in developing future plans, your recommendations should be submitted no later than November 28, 2003, to: Michael Lesar, Chief, Rules and Directives Branch, Mail Stop T-6D59, U.S. Nuclear Regulatory Commission, Washington, DC 20555-0001. Comments may also be submitted by e-mail to NRCREP@NRC.GOV.

(5 U.S.C. 552(a))
Dated at Rockville, MD, this 27th Day of October 2003.
For the Nuclear Regulatory Commission.
Alan E. Levin,
Senior Technical Advisor to the Director, Office of Nuclear Regulatory Research.

[FR Doc. 03-27456 Filed 10-30-03; 8:45 am]

BILLING CODE 7590-01-P